DEPARTMENT OF AGRICULTURE

Farm Service Agency

7 CFR Part 770

Rural Housing Service

Rural Business-Cooperative Service

Rural Utilities Service

7 CFR Parts 1823 and 1956

[RIN 0560-AF43]

Loans to Indian Tribes and Tribal Corporations

AGENCY: Farm Service Agency, USDA.

ACTION: Proposed rule; extension of comment period.

SUMMARY: The comment period for the proposed rule is being extended in order to provide opportunities to further comment on this rule and its criteria as requested by several parties. This proposed rule was initially published in the Federal Register on November 2, 1999, (64 FR 59131). This proposed rule will consolidate into one part and to revise the Indian Tribal Land Acquisition Program (ITLAP) regulations to allow borrowers to use the loan reserve accounts to purchase additional real estate and to give borrowers additional servicing options. The proposed rule also would allow ITLAP funds to be used for certain refinancing activities; limit the requirement for reserve accounts to loans not secured by a general assignment of Tribal income; expand the uses borrowers may make of land purchased with ITLAP funds; require ITLAP loan applications, in most cases, include a copy of the borrower's option to purchase the land; and provide for subsequent loans to be made to ITLAP borrowers.

DATES: Comments on the proposed rule must be received on or before May 1, 2000 to be assured of consideration.

ADDRESSES: Mail comments on the proposed rule to: Arthur Veldon Hall, Director, Farm Loan Programs, Loan Servicing and Property Management Division, Farm Service Agency, USDA, 1400 Independence Avenue, S.W., STOP 0523, Washington, D.C. 20250-0523, fax number: (202) 690-0949, or hand deliver them to room 5449-South at the address listed above during normal business hours.

FOR FURTHER INFORMATION CONTACT: Gary West, Senior Loan Officer, Farm Loan Programs, Loan Servicing and Property Management Division, Farm Service Agency, USDA, 1400 Independence Avenue, S.W., STOP 0523, Washington, D.C. 20250-0523, telephone (202) 690-4008, facsimile (202) 690-0949, electronic mail: gwest@wdc.usda.fsa.gov.

SUPPLEMENTARY INFORMATION

I. Extension of Comment Period

In the Federal Register of November 2, 1999, FSA published a proposed rule to enunciate eligibility criteria for debt relief options for ITLAP loans. The comment period closed December 2, 1999, FSA is soliciting comments from interested persons concerning these elements.

FSA received one request from an indebted FSA ITLAP borrower to extend the comment period an additional 30 days. In response to the request, FSA is extending the comment period an additional 30 days.

II. Comments

Interested persons may, on or before May 1, 2000 submit to the Farm Loan Programs, Loan Servicing and Property Management Division (address above) written comments regarding the proposed rule. Two copies of any comments are to be submitted except that individuals may submit one copy. All written comments are available for public inspection from 9 a.m. to 4 p.m., Monday through Friday at the address listed above.

Signed at Washington, D.C., on March 23, 2000.
August Schumacher, Jr.,
Under Secretary for Farm and Foreign Agricultural Services.

[FR Doc. 00-8004 Filed 3-30-00; 8:45 am]

BILLING CODE 3410-05-P